DEPARTMENT OF HEALTH AND HUMAN SERVICES

Office of the Secretary

Findings of Research Misconduct

AGENCY: Office of the Secretary, HHS.

ACTION: Notice.

SUMMARY: Notice is hereby given that on October 22, 2018, the U.S. Department of Health and Human Services (HHS) Debarring Official, on behalf of the Secretary of HHS, issued a final notice of debarment based on an Administrative Law Judge's finding of research misconduct against Rakesh Srivastava, Ph.D., former Eminent Scholar and Professor, University of Kansas Medical Center (KUMC). Dr. Srivastava engaged in research misconduct in research proposed or reported in grant application 1 R01 CA175776-01, submitted to the National Cancer Institute (NCI), National Institutes of Health (NIH), on June 5, 2012. The administrative actions, including two (2) years of debarment, were implemented beginning on October 22, 2018, and are detailed below.

FOR FURTHER INFORMATION CONTACT: Wanda K. Jones, Dr. P.H., Interim Director, Office of Research Integrity, 1101 Wootton Parkway, Suite 750, Rockville, MD 20852, (240) 453-8200.

SUPPLEMENTARY INFORMATION:

Rakesh Srivastava, Ph.D., University of Kansas Medical Center: Based on the evidence and findings of an investigation conducted by KUMC and additional information obtained by the Office of Research Integrity (ORI) during its oversight review, ORI found by a preponderance of the evidence that Dr. Rakesh Srivastava (Respondent), former Eminent Scholar and Professor, KUMC, intentionally and knowingly submitted extensive plagiarized text in grant application 1 R01 CA175776-01, “Regulation of Mitochondrial Metabolism by SIRT4,” submitted to NCI, NIH, to obtain U.S. Public Health Service (PHS) funds. Specifically, ORI found that the Respondent intentionally and knowingly plagiarized scientifically significant text from the Specific Aims and Research Strategy sections of a grant application under review at NIH into his own grant application, 1 R01 CA175776-01, submitted to NIH eight months later. Significant text was included in Respondent's grant application, with plagiarized text accounting for 40% of the Specific Aims and 50% of the Research Strategy sections.

ORI issued a charge letter making a finding of research misconduct and proposing HHS administrative actions. Dr. Srivastava subsequently requested a hearing before an Administrative Law Judge (ALJ) of the Departmental Appeals Board to dispute the finding. ORI moved for summary judgment. On September 5, 2018, the ALJ granted summary judgment in favor of ORI and issued his recommended decision, finding that Respondent intentionally committed research misconduct by submitting to NIH a grant application that included plagiarized words, which included significant text from another principal investigator's grant application that was contained in the Specific Aims and Research Strategy sections of the Respondent's grant application without attribution to the other principal investigator. The ALJ held that appropriate administrative actions included a two-year debarment from any contracting or subcontracting with any agency of the United States Government and from eligibility for or involvement in nonprocurement programs of the United States Government referred to as “covered transactions.” 2 CFR parts 180 and 376. The ALJ held that it was an appropriate administrative action to also impose a two-year prohibition from serving in any capacity to PHS including, but not limited to, service on any PHS advisory committee, board, or peer review committee, or as a consultant. Under the regulation, the ALJ's recommended decision went to the Assistant Secretary for Health, who did not modify it and forwarded it to the HHS Debarring Official, who is the deciding official for the debarment. The ALJ decision constituted the findings of fact to the HHS Debarring Official in accordance with 2 CFR 180.845(c). On October 22, 2018, the HHS Debarring Official issued a final notice of debarment to begin on October 22, 2018, and end on October 21, 2020.

Thus, the research misconduct finding set forth above became effective, and the following administrative actions have been implemented for a period of two (2) years, beginning on October 22, 2018:

(1) Dr. Srivastava is debarred from any contracting or subcontracting with any agency of the United States Government and from eligibility or involvement in nonprocurement programs of the United States Government referred to as “covered transactions” pursuant to HHS' Implementation (2 CFR part 376) of Office of Management and Budget (OMB) Guidelines to Agencies on Governmentwide Debarment and Suspension (2 CFR part 180); and

(2) Dr. Srivastava is prohibited from serving in any advisory capacity to PHS including, but not limited to, service on any PHS advisory committee, board, and/or peer review committee, or as a consultant.

Wanda K. Jones,
Interim Director, Office of Research Integrity.

[FR Doc. 2018-25065 Filed 11-15-18; 8:45 am]

BILLING CODE 4150-31-P